FARM CREDIT ADMINISTRATION

12 CFR Part 613

RIN 3052-AC33

Eligibility and Scope of Financing; Processing and Marketing; Effective Date

AGENCY: Farm Credit Administration.

ACTION: Notice of effective date.

SUMMARY: The Farm Credit Administration (FCA or Agency), through the FCA Board (Board), issued a final rule under part 613 on May 28, 2008 (73 FR 30460) amending our regulation governing financing of processing and marketing operations by Farm Credit System institutions under titles I and II of the Farm Credit Act of 1971, as amended. In accordance with 12 U.S.C. 2252, the effective date of the final rule is 30 days from the date of publication in the Federal Register during which either or both Houses of Congress are in session. Based on the records of the sessions of Congress, the effective date of the regulations is July 17, 2008.

DATES: Effective Date: The regulation amending 12 CFR part 613 published on May 28, 2008 (73 FR 30460) is effective July 17, 2008.

FOR FURTHER INFORMATION CONTACT:

Barry Mardock, Associate Director, Office of Regulatory Policy, Farm Credit Administration, McLean, Virginia 22102-5090, (703) 883-4456, TTY (703) 883-4434, or

Michael J. Duffy, Senior Policy Analyst, Office of Regulatory Policy, Farm Credit Administration, McLean, Virginia 22102-5090, (952) 854-7151, TTY (952) 854-2239, or

Howard I. Rubin, Senior Counsel, Office of General Counsel, Farm Credit Administration, McLean, Virginia 22102-5090, (703) 883-4029, TTY (703) 883-4020.

(12 U.S.C. 2252(a)(9) and (10))

Dated: July 17, 2008.
Roland E. Smith,
Secretary, Farm Credit Administration Board.

[FR Doc. E8-16772 Filed 7-21-08; 8:45 am]

BILLING CODE 6705-01-P